FEDERAL RETIREMENT THRIFT INVESTMENT BOARD

Notice of Board Meeting

DATES: October 25, 2022 at 10:00 a.m.

ADDRESSES: Telephonic. Dial-in (listen only) information: Number: 1-202-599-1426, Code: 697 354 489#; or via web: https://teams.microsoft.com/l/meetup-join/19%3ameeting_M2VkZDY3YmYtNjc5NC00ODgzLTkyMWEtY2U3M2MyNmFlNzdj%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION:

Board Meeting Agenda

Open Session

1. Approval of the September 27, 2022 Board Meeting Minutes

2. Monthly Reports

(a) Participant Activity Report

(b) Legislative Report

3. Quarterly Reports

(c) Investment Performance

(d) Audit Status

(e) Budget Review

4. Mid-Year Financial Review

5. Enterprise Risk Management Update

Closed Session

6. Information covered under 5 U.S.C. 552b (c)(6).

(Authority: 5 U.S.C. 552b (e)(1))

Dated: October 12, 2022.
Dharmesh Vashee,
General Counsel, Federal Retirement Thrift Investment Board.

[FR Doc. 2022-22543 Filed 10-17-22; 8:45 am]

BILLING CODE P